DEPARTMENT OF COMMERCE

Bureau of Economic Analysis

Proposal To Collect Information on Transactions of U.S. Affiliates With Their Foreign Parents

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m., December 4, 2006.

ADDRESSES: Direct all written comments to Diana Hynek, Departmental Paperwork Clearance Officer, Department of Commerce, Room 6625, 14th and Constitution Avenue, NW., Washington, DC 20230 (or e-mail dhynek@doc.gov).

FOR FURTHER INFORMATION CONTACT: Obie G. Whichard, Chief, International Investment Division, (BE-50), Bureau of Economic Analysis, U.S. Department of Commerce, Washington, DC 20230; phone (202) 606-9890 (or e-mail obie.whichard@bea.gov).

SUPPLEMENTARY INFORMATION:

I. Abstract

The Transactions of U.S. Affiliates, Except a U.S. Banking Affiliate, with Foreign Parent (Form BE-605) and Transactions of U.S. Banking Affiliate with Foreign Parent (Form BE-605 Bank) obtain quarterly sample data on transactions and positions between foreign-owned U.S. business enterprises and their “affiliated foreign groups” (i.e., their foreign parents and foreign affiliates of their foreign parents). The data collected are used in the preparation of the U.S. international transactions accounts, national income and product accounts, and input-output accounts. The data are needed to measure the amount of foreign direct investment in the United States, monitor changes in such investment, assess its impact on the U.S. and foreign economies and, based upon this assessment, make informed policy decisions regarding foreign direct investment in the United States.

BEA proposes the following changes to the survey to reduce respondent burden: (1) Redesign Form BE-605 to incorporate all instructions into the form, placing them, for the most part, on the pages facing the items to be reported; convert the most complicated instructions into separate line item questions; and, to further clarify the reporting requirements, include illustrative diagrams adjacent to questions pertaining to the ownership structure of the U.S. business enterprise and its affiliated foreign groups. (2) Delete questions from Form BE-605 and BE-605 Bank requesting information on receipts and payments for services transactions between the U.S. business enterprise and its affiliated foreign groups. BEA will propose to include these questions on its surveys covering trade in services, beginning with the first quarter of calendar year 2007.

II. Method of Collection

Forms BE-605 and BE-605 Bank are quarterly reports that must be filed within 30 days after the end of each quarter (45 days after the final quarter of the respondent's fiscal year) by every U.S. business enterprise that is owned 10 percent or more by a foreign investor and that has total assets, sales or gross operating revenues, or net income (positive or negative) of over $30 million. Potential respondents are those U.S. business enterprises that were required to report in the BE-12, Benchmark Survey of Foreign Direct Investment in the United States—2002, along with those U.S. business enterprises that subsequently entered the direct investment universe. The data collected are sample data covering transactions and positions between foreign-owned U.S. business enterprises and their affiliated foreign groups. Universe estimates are developed from the reported sample data.

III. Data

OMB Number: 0608-0009.

Form Number: BE-605/BE-605 Bank.

Type of Review: Regular submission.

Affected Public: Businesses or other for-profit organizations.

Estimated Number of Respondents: 3,950 per quarter; 15,800 annually.

Estimated Time Per Response: 1 hour.

Estimated Total Annual Burden Hours: 15,800.

Estimated Total Annual Cost: $632,000 (based on an estimated reporting burden of 15,800 hours and an estimated hourly cost of $40).

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 28, 2006.
Madeleine Clayton,
Management Analyst, Office of the Chief Information Officer.

[FR Doc. E6-16327 Filed 10-3-06; 8:45 am]

BILLING CODE 3510-06-P